DEPARTMENT OF HOUSING AND URBAN DEVELOPMENT

[Docket No. FR-7092-N-33]

Privacy Act of 1974; System of Records

AGENCY: Office of Administration, HUD.

ACTION: Notice of a new system of records.

SUMMARY: Under the Privacy Act of 1974, as amended, the Department of Housing and Urban Development (HUD), Office of Administration is issuing a public notice of its intent to establish a Privacy Act System of Records titled “Freedom Of Information Act (FOIA) Management System (FMS2)”. The FMS2 tracking system will provide HUD with the ability to collect information and inquiries directly from the public and provide responses. HUD will use FMS2 to monitor the status of internal and external FOIA requests, which helps to run a robust and effective FOIA tracking system by offering the ability to prioritize and expedite incoming requests.

DATES: Comments will be accepted on or before July 29, 2024. This proposed action will be effective on the date following the end of the comment period unless comments are received which result in a contrary determination.

ADDRESSES: You may submit comments, identified by docket number by one method:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov .

FOR FURTHER INFORMATION CONTACT: LaDonne White, Chief Privacy Officer, The Privacy Office; 451 Seventh Street SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD, Office of Administration maintains the FOIA Management System (FMS2). This system allows HUD to collect information, and inquiries directly from the public through the Public Access Link (PAL), reducing the workload while increasing response times. The FOIA Management system will link, store, and analyze data collected through the PAL link. The Department uses this information to provide responses specific to the inquiries. These records may help streamline and make more efficient the processing of requests and FOIA processes, while ensuring compliance with applicable laws and regulations, including confidentiality requirements protecting the information individuals submit in support of their request or claims in the FOIA inquiry process. Individuals can also submit their FOIA request via PAL.

SYSTEM NAME AND NUMBER:

FOIA Management System (FMS2), HUD/ADM-11.

SECURITY CLASSIFICATION:

Unclassified.

SYSTEM LOCATION:

HUD Headquarter, Office of Administration, 451 7th Street SW, Room 10139, Washington, DC 20410-0001.

SYSTEM MANAGER(S):

Ms. Bao-Anh Trinh, Director, FOIA Branch, Office of Administration, 451 Seventh Street SW, Room 10139,Washington, DC 20410-0001; Email: Bao-anh.V.Trinh@HUD.gov; (202) 402-7641 and Ms. Kim Adams, System Manager, Office of Administration, 451 Seventh Street SW, Room 6210, Washington, DC 20410, telephone number (202) 402-4861.

AUTHORITY FOR MAINTENANCE OF THE SYSTEM:

The collection and maintenance of accommodation records is authorized by Sections 2 and 7(d) of the Department of Housing and Urban Development Act of 1965, Public Law 89-174, 42 U.S.C. 3531, 3535(d); The Freedom of Information Act, Public Law 89-487, as amended, 5 U.S.C. 552.

PURPOSE(S) OF THE SYSTEM:

The FMS2 will help HUD to track correspondence both internally among program offices and those received externally from outside entities. This system will enable HUD to track FOIA inquiries (internal and external) to HUD.

CATEGORIES OF INDIVIDUALS COVERED BY THE SYSTEM:

Individuals who correspond with the Secretary, Deputy Secretary, Assistant Secretaries, HUD Program Offices, or Field Office officials.

CATEGORIES OF RECORDS IN THE SYSTEM:

Full name, home address, email address(es), telephone number (work and home), legal documents and records, individual's attorneys or representatives' names, phone number (work and fax), address, and case identifier.

RECORD SOURCE CATEGORIES:

Records are provided by individuals.

ROUTINE USES OF RECORDS MAINTAINED IN THE SYSTEM, INCLUDING:

1. To a congressional office from the record of an individual, in response to an inquiry from the congressional office made at the request of that individual.

2. To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

3. To contractors, grantees, experts, consultants and their agents, or others performing or working under a contract, service, grant, cooperative agreement, or other agreement with HUD, when necessary to accomplish an agency function related to a system of records. Disclosure requirements are limited to only those data elements considered relevant to accomplishing an agency function.

4. To appropriate agencies, entities, and persons when: (1) HUD suspects or has confirmed that there has been a breach of the system of records; (2) HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

5. To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

6. To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

7. To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

8. To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

POLICIES AND PRACTICES FOR STORAGE OF RECORDS:

Electronic and Paper.

POLICIES AND PRACTICES FOR RETRIEVAL OF RECORDS:

Name, case number, and HUD Identification number.

POLICIES AND PRACTICES FOR RETENTION AND DISPOSAL OF RECORDS:

Per General Record Schedule 4.2, item 040, Correspondence, Emails, Non-financial Transactions, and Reports. Temporary. Destroy 5 years after date of last entry or final action by agency, as appropriate, but longer retention is authorized if required for business use.”

ADMINISTRATIVE, TECHNICAL, AND PHYSICAL SAFEGUARDS:

For Electronic Records: All personal data will be maintained on a secure workstation or virtual server that is protected by a firewall and complex passwords in a directory that can only be accessed by the system administrators and the analysts actively working on the data; the system used to process or store data have Federal security controls applied to them; the data will be backed up on a regular basis to safeguard against system failures or disasters; and, unencrypted data will not be stored on a laptop or on removable media such as CDs, diskettes, or USB flash drives. Electronic Records are maintained and stored in an electronic encryption database system. These records can only be accessed based off the user's rights and privileges to the system. A multifactor identification method is required which consists of the several layers of security to access the records, such as a valid common access card, access to HUD's network, and a valid User ID and password.

For Paper Records: The analysts will securely store any hard copy forms with personal identifiers until they are archived; all hard copy forms with personal identifying data will be stored securely in a locked cabinet that can only be accessed by authorized individuals working on the data.

RECORD ACCESS PROCEDURES:

Individuals requesting records of themselves should address written inquiries to the Department of Housing and Urban Development, 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing and Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY: N/A.

LaDonne L. White,
Chief Privacy Officer, Office of Administration.

[FR Doc. 2024-14139 Filed 6-26-24; 8:45 am]

BILLING CODE 4210-67-P